COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds products to the Procurement List that will be furnished by the nonprofit agency employing persons who are blind or have other severe disabilities, and deletes products and services from the Procurement List previously furnished by such agencies.

DATES: Effective December 25, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 10/7/2016 (81 FR 69789-69790), the Committee for Purchase From People Who Are Blind or Severely Disabled published notice of proposed additions to the Procurement List.

After consideration of the material presented to it concerning capability of the qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing a small entity to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s)

6530-00-NIB-0186—Cap, Pharmaceutical Bottle, 38/400, White, CRC, Foil Liner, VA Logo

6530-00-NIB-0268—Cap, Pharmaceutical Bottle, 38/400, White, CRC, Foam Liner, VA Logo

Mandatory for: 100% of the requirements of the Department of Veterans Affairs National Centralized Mail-Order Pharmacy (CMOP) Program

Mandatory Source(s) of Supply: Alphapointe, Kansas City, MO

Contracting Activity: Department of Veterans Affairs National Centralized Mail-Order Pharmacy Office

Distribution: C-List

Deletions

On 10/14/2016 (81 FR 71086-71087), 10/21/2016 (81 FR 72784-72785), and 10/28/2016 (81 FR 75050), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s): 8340-01-026-6096—Shelter Half, Tent, Complete

Mandatory Source(s) of Supply: ORC Industries, Inc., La Crosse, WI

Contracting Activity: Defense Logistics Agency Troop Support

NSN(s)—Product Name(s): 7510-01-600-8030—Dated 2016 12-Month 2-Sided Laminated Wall Planner, 24″ x 37″

Mandatory Source(s) of Supply: Chicago Lighthouse Industries, Chicago, IL

Contracting Activity: General Services Administration, Philadelphia, PA

NSN(s)—Product Name(s): 7510-01-600-8036—Dated 2016 18-month Paper Wall Planner, 24″ x 37″

Mandatory Source(s) of Supply: Chicago Lighthouse for People Who Are Blind or Visually Impaired, Chicago, IL

Contracting Activity: General Services Administration, Philadelphia, PA

NSN(s)—Product Name(s)

7530-01-600-7573—Daily Desk Planner, Dated 2016, Wire bound, Non-refillable, Black Cover

7530-01-600-7591—Weekly Desk Planner, Dated 2016, Wire Bound, Non-refillable, Black Cover

7530-01-600-7599—Weekly Planner Book, Dated 2016, 5″ x 8″ , Black

7530-01-600-7607—Monthly Desk Planner, Dated 2016, Wire Bound, Non-refillable, Black Cover

7510-01-600-7562—Monthly Wall Calendar, Dated 2016, Jan-Dec, 8½″ x 11″

7510-01-600-7614—Wall Calendar, Dated 2016, Wire Bound w/Hanger, 12″ x 17″

7510-01-600-7632—Wall Calendar, Dated 2016, Wire Bound w/hanger, 15.5″ x 22″

Mandatory Source(s) of Supply: Chicago Lighthouse Industries, Chicago, IL

Contracting Activity: General Services Administration, Philadelphia, PA

NSN(s)—Product Name(s): 7510-01-565-9539—Tape, Double-Sided

Mandatory Source(s) of Supply: Alphapointe, Kansas City, MO

Contracting Activity: General Services Administration, New York, NY

NSN(s)—Product Name(s): 7530-00-290-0600—Paper, Xerographic, Dual Purpose, White, U.S. Federal Watermarked, 8.5″ x 14″

Mandatory Source(s) of Supply: Louisiana Association for the Blind, Shreveport, LA

Contracting Activity: General Services Administration, New York, NY

NSN(s)—Product Name(s)

MR 764—Pillow, Fiber Fill

MR 765—Pillow, Fiber Fill

Mandatory Source(s) of Supply: Georgia Industries for the Blind, Bainbridge, GA

Contracting Activity: Defense Commissary Agency

Services

Service Type: Grounds Maintenance Service

Mandatory for: U.S. Army Reserve Center: AMSA 68(G) 42 Albion Road, Lincoln, RI

Mandatory Source(s) of Supply: The Fogarty Center, North Providence, RI

Contracting Activity: Dept of the Army, W40M NORTHEREGION Contract OFC

Service Type: Janitorial/Custodial Service

Mandatory for: U.S. Army, AMSA 163 (BMA) 48 Albion Rd, Lincoln, RI

Mandatory Source(s) of Supply: The Fogarty Center, North Providence, RI

Contracting Activity: Dept of the Army, W6QK ACC-PICA

Service Type: Janitorial/Custodial Service

Mandatory for: Department of the Air Force, Buildings 529 and 575, Randolph AFB, TX

Mandatory Source(s) of Supply: Relief Enterprise, Inc., Austin, TX

Contracting Activity: Dept of the Air Force, FA7014 AFDW PK

Service Type: Operation of Postal Service Center Service

Mandatory for: Robins Air Force Base, Robins AFB, GA

Mandatory Source(s) of Supply: Good Vocations, Inc., Macon, GA

Contracting Activity: Dept of the Air Force, FA8501 AFSC PZIO

Service Type: Custodial Service

Mandatory for: Defense Finance and Accounting Service (DFAS)—Denver Center, 6760 E. Irvington Place, Denver, CO

Mandatory Source(s) of Supply: North Metro Community Services for Developmentally Disabled, Westminster, CO

Contracting Activity: Dept of the Air Force, FA7014 AFDW PK

Barry S. Lineback,
Director, Business Operations.

[FR Doc. 2016-28545 Filed 11-25-16; 8:45 am]

BILLING CODE 6353-01-P